DEPARTMENT OF COMMERCE

International Trade Administration

[A-201-853]

Standard Steel Welded Wire Mesh From Mexico: Antidumping Duty Order; Correction

AGENCY: Enforcement and Compliance, International Trade Administration, Department of Commerce.

ACTION: Notice; correction.

SUMMARY: The Department of Commerce (Commerce) published notice in the Federal Register of August 9, 2021, in which Commerce published the antidumping duty order on standard steel welded wire mesh from Mexico. This notice incorrectly described the scope of the investigation rather than the scope of the order.

FOR FURTHER INFORMATION CONTACT: Melissa Kinter or Alice Maldonado, AD/CVD Operations, Office II, Enforcement and Compliance, International Trade Administration, U.S. Department of Commerce, 1401 Constitution Avenue NW, Washington, DC 20230; telephone: (202) 482-1413 or (202) 482-4682, respectively.

SUPPLEMENTARY INFORMATION:

Correction

In the Federal Register of August 9, 2021, in FR Doc 2021-16982, on page 43526 in the second column, correct the section titled, “Appendix—Scope of the Investigation,” to state, “Appendix—Scope of the Order” and “The merchandise covered by this order . . .” and on page 43527 in the second column, correct the following language to state, “Merchandise subject to this order . . . the written description of the scope of this order is dispositive.”

Background

On August 9, 2021, Commerce published in the Federal Register Standard Steel Welded Wire Mesh from Mexico: Antidumping Duty Order.¹ We incorrectly described the scope of the investigation rather than the scope of the order.

¹ See Standard Steel Welded Wire Mesh from Mexico: Antidumping Duty Order, 86 FR 43525 (August 9, 2021).

Notification to Interested Parties

This notice is issued and published in accordance with section 736(a) of the Tariff Act of 1930, as amended, and 19 CFR 351.211(b).

Dated: August 10, 2021.
James Maeder,
Deputy Assistant Secretary for Antidumping and Countervailing Duty Operations.

[FR Doc. 2021-17465 Filed 8-13-21; 8:45 am]

BILLING CODE 3510-DS-P